ENVIRONMENTAL PROTECTION AGENCY

40 CFR Part 52

[PA203-4210a; FRL-7523-6]

Approval and Promulgation of Air Quality Implementation Plans; Pennsylvania; VOC and NOX RACT Determinations for Two Individual Sources

AGENCY: Environmental Protection Agency (EPA).

ACTION: Direct final rule.

SUMMARY: EPA is taking direct final action to approve revisions to the Commonwealth of Pennsylvania's State Implementation Plan (SIP). The revisions were submitted by the Pennsylvania Department of Environmental Protection (PADEP) to establish and require reasonably available control technology (RACT) for one major source of nitrogen oxides (NOX) and one major source for volatile organic compounds (VOC) located in Pennsylvania. EPA is approving these revisions to establish RACT requirements in the SIP in accordance with the Clean Air Act (CAA).

DATES: This rule is effective on October 6, 2003 without further notice, unless EPA receives adverse written comment by September 5, 2003. If EPA receives such comments, it will publish a timely withdrawal of the direct final rule in the Federal Register and inform the public that the rule will not take effect.

ADDRESSES: Comments may be submitted either by mail or electronically. Written comments should be mailed to Makeba Morris, Chief, Air Quality Planning Branch, Mailcode 3AP21, U.S. Environmental Protection Agency, Region III, 1650 Arch Street, Philadelphia, Pennsylvania 19103. Electronic comments should be sent either to morris.makeba@epa.gov or to http://www.regulations.gov, which is an alternative method for submitting electronic comments to EPA. To submit comments, please follow the detailed instructions described in Part III of the Supplementary Information section. Copies of the documents relevant to this action are available for public inspection during normal business hours at the Air Protection Division, U.S. Environmental Protection Agency, Region III, 1650 Arch Street, Philadelphia, Pennsylvania 19103; the Air and Radiation Docket and Information Center, U.S. Environmental Protection Agency, 1301 Constitution Avenue, NW., Room B108, Washington, DC 20460; and the Maryland Department of the Environment, 1800 Washington Boulevard, Suite 705, Baltimore, Maryland 21230.

FOR FURTHER INFORMATION CONTACT: Janice Lewis at (215) 814-2185 or by e-mail at lewis.janice@epa.gov.

SUPPLEMENTARY INFORMATION:

I. Background

Pursuant to sections 182(b)(2) and 182(f) of the CAA, the Commonwealth of Pennsylvania (the Commonwealth or Pennsylvania) is required to establish and implement RACT for all major VOC and NOX sources. The major source size is determined by its location, the classification of that area, and whether it is located in the ozone transport region (OTR). Under section 184 of the CAA, RACT, as specified in sections 182(b)(2) and 182(f) applies throughout the OTR. The entire Commonwealth is located within the OTR. Therefore, RACT is applicable statewide in Pennsylvania.

II. Summary of the SIP Revision

On October 26, 1999, and February 4, 2003, PADEP submitted formal revisions to the Pennsylvania SIP which establish and impose case-by-case RACT for several major sources of VOC and/or NOX. This rulemaking pertains to two of those sources. The remaining sources are or have been the subject of separate rulemakings. The RACT determinations and requirements are included in plan approvals (PA) or operating permits (OP) issued by the Commonwealth. The following table below identifies the sources and the individual operating permits (OP) which are the subject of this rulemaking.

VOC and NOX RACT Determinations for Individual Sources
Source | County | OP# | Source type | Major pollutant
Tarkett, Inc | Lehigh | OP 39-0002 | Vinyl Flooring Mfg | VOC.
Harcros Pigments, Inc | Northampton | OP 48-018 | Mfg. of Pigments | NOX.

A. Tarkett Inc.—Tarkett, Inc. (Tarkett) is a vinyl flooring manufacturing facility located in Lehigh County. Tarkett is a major source of VOC and a minor source for NOX. PADEP issued an operating permit (OP 39-0002) to establish and impose RACT for Tarkett. Under the OP 39-0002, the NOX emission limit shall never exceed 100 tons per year. Under the OP 39-0002, Tarkett must not exceed 356.81 tons of VOC per year. Both limits must be met on a rolling monthly basis over a consecutive 12-month period. Under OP 39-0002 , Tarkett must maintain all records, testing data and calculations to clearly demonstrate compliance with Sections 129.95 and 129.91-94 of 25 Pennsylvania's Code of Regulations. Record keeping requirements shall include the following, but not be limited to: a record of all VOC containing compounds used at the facility as well as calculations on the individual source emissions and the VOC emissions for the entire facility; the felt mill must maintain monthly records of the hydropulper feed materials for all batches, the paper machine slurry must maintain monthly feed rates and hours of operation; the four meter line must maintain monthly records of the types of urethane, urethane usage, and hours of operation; all air pollution control systems must conduct performance evaluations, records of calibration checks, adjustments and maintenance performed on all equipment which are subject to OP 39-0002. Also, the type of VOC contained products stored, a record of quantities, identify usage and recovery of all VOC solvents used in clean-up operations for the entire facility. All record keeping requirements must be calculated on a monthly basis (12-month period). The storage and handling of materials collected in the air cleaning device(s) shall not at anytime result in the emissions of fugitive air contaminants. Temperature measuring and recording devices on the thermal incinerator shall be maintained to show gases exiting the combustion chamber or zone. All records shall be retained and maintained for at least two years. Under OP 39-0002, Tarkett must operate and maintain all processes according to good engineering and air pollution control practices in accordance with applicable PADEP regulations.

B. Harcros Pigments, Inc.—Harcros Pigments Inc. (Harcros) is a manufacturer of synthetic and natural iron oxides for use in chemical and pigmenting applications. Harcros is located in Northampton County. Harcros is a major source of NOX and minor source for VOC. On July 31, 1996, PADEP issued an operating permit (OP 48-0018) to establish and impose RACT for Harcros. Under OP 48-0018, Harcros must comply with Section 129.93(2) of 25 Pennsylvania Code of Regulations for the Cleaver Brooks boiler with a rated heat input of 25.1 MMBtu/hr and the Babcock & Wilcox boiler with a rated heat input of 36.4 MMBtu/hrs. Presumptive RACT for these units shall be the performance of an annual adjustment or tune-up on the combustion process. The emergency generator shall be limited to 500 hours of operation in a consecutive 12-month period. The remaining units which have a rated heat input of less than 20 MMBtu/hr shall install, maintain, and operate all units in accordance with manufacturers' specifications. The total allowable NOX emission limit for this facility shall not exceed 207.0 tons per year. Under OP 48-0018, Harcros must operate and maintain all equipment according to good engineering and air pollution control practices. All measurements, records and other data required to be maintained by the company shall be retained for at least two years following the date on which such measurements, records and/or data are recorded.

III. EPA's Evaluation of the SIP Revisions

EPA is approving these SIP revisions because the Commonwealth established and imposed RACT requirements in accordance with the criteria set forth in SIP-approved regulations for imposing RACT or for limiting a source's potential to emit. The Commonwealth has also imposed record-keeping, monitoring, and testing requirements on these sources sufficient to determine compliance with these requirements.

IV. Final Action

EPA is approving revisions to the Commonwealth of Pennsylvania's SIP to establish and require VOC and/or NOX RACT for two major sources listed in this document. EPA is publishing this rule without prior proposal because we view this as a noncontroversial amendment and anticipate no adverse comment. However, in the “Proposed Rules” section of today's Federal Register, EPA is publishing a separate document that will serve as the proposal to approve the SIP revision if adverse comments are filed. This direct final rule will be effective on October 6, 2003 without further notice unless we receive adverse comment by September 5, 2003. If EPA receives adverse comment, EPA will publish a timely withdrawal in the Federal Register informing the public that the rule will not take effect. EPA will address all public comments in a subsequent final rule based on the proposed rule. EPA will not institute a second comment period on this action. Any parties interested in commenting must do so at this time. Please note that if EPA receives adverse comment on an amendment, paragraph, or section of this rule and if that provision may be severed from the remainder of the rule, EPA may adopt as final those provisions of the rule that are not the subject of an adverse comment.

You may submit comments either electronically or by mail. To ensure proper receipt by EPA, identify the appropriate rulemaking identification number PA203-42104a in the subject line on the first page of your comment. Please ensure that your comments are submitted within the specified comment period. Comments received after the close of the comment period will be marked “late.” EPA is not required to consider these late comments.

1. Electronically. If you submit an electronic comment as prescribed below, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. E-mail. Comments may be sent by electronic mail (e-mail) to morris.makeba@epa.gov, attention PA203-4210a. EPA's e-mail system is not an “anonymous access” system. If you send an e-mail comment directly without going through Regulations.gov, EPA's e-mail system automatically captures your e-mail address. E-mail addresses that are automatically captured by EPA's e-mail system are included as part of the comment that is placed in the official public docket, and made available in EPA's electronic public docket.

ii. Regulations.gov. Your use of Regulation.gov is an alternative method of submitting electronic comments to EPA. Go directly to http://www.regulations.gov, then select “Environmental Protection Agency” at the top of the page and use the “go” button. The list of current EPA actions available for comment will be listed. Please follow the online instructions for submitting comments. The system is an “anonymous access” system, which means EPA will not know your identity, e-mail address, or other contact information unless you provide it in the body of your comment.

iii. Disk or CD ROM. You may submit comments on a disk or CD ROM that you mail to the mailing address identified in the ADDRESSES section of this document. These electronic submissions will be accepted in WordPerfect, Word or ASCII file format. Avoid the use of special characters and any form of encryption.

2. By Mail. Written comments should be addressed to the EPA Regional office listed in the ADDRESSES section of this document.

V. Statutory and Executive Order Reviews

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4). This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804 exempts from section 801 the following types of rules: (1) Rules of particular applicability; (2) rules relating to agency management or personnel; and (3) rules of agency organization, procedure, or practice that do not substantially affect the rights or obligations of non-agency parties. 5 U.S.C. 804(3). EPA is not required to submit a rule report regarding today's action under section 801 because this is a rule of particular applicability establishing source-specific requirements for two named sources.

C. Petitions for Judicial Review

Under section 307(b)(1) of the Clean Air Act, petitions for judicial review of this action must be filed in the United States Court of Appeals for the appropriate circuit by October 6, 2003. Filing a petition for reconsideration by the Administrator of this final rule does not affect the finality of this rule for the purposes of judicial review nor does it extend the time within which a petition for judicial review may be filed, and shall not postpone the effectiveness of such rule or action. This action approving Pennsylvania's source-specific RACT requirements to control VOC and/or NOX from two individual sources may not be challenged later in proceedings to enforce its requirements. (See section 307(b)(2).)

List of Subjects in 40 CFR Part 52

Environmental protection, Air pollution control, Incorporation by reference, Nitrogen dioxides, Ozone, Reporting and recordkeeping requirements,Volatile organic compounds.

Dated: June 26, 2003.
Donald S. Welsh,
Regional Administrator, Region III.

40 CFR part 52 is amended as follows:

PART 52—[AMENDED]

1. The authority citation for Part 52 continues to read as follows:

Authority: 42 U.S.C. 7401 et seq.

Subpart NN—Pennsylvania

2. Section 52.2020 is amended by adding paragraph (c)(208) to read as follows:

§ 52.2020 Identification of plan.

* * * * *

(c) * * *

(208) Revisions pertaining to VOC and NOX RACT for major sources submitted on October 25, 1999, and February 4, 2003, by the Pennsylvania Department of Environmental Protection.

(i) Incorporation by reference.

(A) Letters submitted on October 26, 1999, and February 4, 2003 by the Pennsylvania Department of Environmental Protection transmitting source-specific VOC and/or NOX RACT determinations, in the form of operating permits.

(B) Operating permits (OP) issued to the following sources:

(1) Tarkett Incorporated, Lehigh County, OP 39-0002, effective May 31, 1995.

(2) Harcros Pigments, Inc., Northampton County, OP 48-0018, effective July 31, 1996.

(ii) Additional Material.

(A) Other materials submitted by the Commonwealth of Pennsylvania in support of and pertaining to the RACT determinations for the sources listed in paragraph (c)(208)(i) of this section.

[FR Doc. 03-19924 Filed 8-5-03; 8:45 am]

BILLING CODE 6560-50-P